DEPARTMENT OF STATE

[Public Notice 7647]

60-Day Notice of Proposed Department of State Standard Terms and Conditions for Domestic Federal Assistance Awards

ACTION: Notice of Standard Terms and Conditions for Domestic Federal Assistance Awards at the Department of State.

SUMMARY: The Department of State has submitted the following Standard Terms and Conditions in accordance with Title 2 Government-wide Grants and Agreements that are subject to 2 CFR part 215, Office of Management and Budget (OMB) Circular A-110, “Uniform Administrative Requirements for Grants and Agreements with Institutions of Higher Education, Hospitals and Other Non-Profit Organizations.” This request to the Office of Management and Budget (OMB) for approval is in accordance with the Paperwork Reduction Act of 1995.

DATES: Submit comments to the U.S. Department of State, Federal Assistance Division, Point of Contact Kimberly S. Butler at: ButlerKS2@state.gov for up to 60 days from October 17, 2011.

ADDRESSES: Direct comments to the Department of State Desk Officer in the Office of Procurement Executive, Federal Assistance Division (A/OPE/FA). You may submit comments by the following methods:

• E-mail: Kimberly S. Butler, ButlerKS2@state.gov. You must include OMB control number in the subject line of your message.

• Fax: 703-875-6155. Attention: Kimberly S. Butler, Desk Officer for the Department of State.

FOR FURTHER INFORMATION CONTACT: You may obtain copies of the proposed via Web site by going to http://fa.statebuy.state.gov, click on “Proposed Standard Terms and Conditions” for comment.

SUPPLEMENTARY INFORMATION: I. Background and Purpose of Today's Federal Register Notice: This proposal establishes uniform administrative requirements for the U.S. Department of State Federal Assistance awards (Grants and Cooperative Agreements) awarded to institutions of higher education, hospitals, other non-profit and commercial organizations. The Grants Officer shall incorporate this part into federal assistance awards made to organizations to which it will be applied. The Department of State shall not impose inconsistent requirements, except as provided or required by Federal statute or Executive Order. This part applies to federal assistance, grants and cooperative agreements awarded to foreign governments, organizations under the jurisdiction of foreign governments and international organizations unless otherwise determined by the Grants Officer after coordination with the appropriate program officials. Non-profit organizations that implement Federal programs for States are also subject to State requirements.

Dated: October 7, 2011.
Kimberly S. Butler,
Acting, Federal Assistance Director, Office of the Procurement Executive, Department of State.

[FR Doc. 2011-26781 Filed 10-14-11; 8:45 am]

BILLING CODE 4710-19-P